DEPARTMENT OF THE INTERIOR

Office of the Secretary

[155D1114PD DS62100000 DPD000000.000000]

Proposed Renewal of Information Collection: OMB Control Number 1093-0005, Payments in Lieu of Taxes (PILT) Act, Statement of Federal Lands Payments, (43 CFR 44)

AGENCY: Office of the Secretary, Office of Budget.

ACTION: Notice and request for comments.

SUMMARY: In compliance with the Paperwork Reduction Act of the Office of Budget, Office of the Secretary, Department of the Interior (DOI), announces the proposed extension of a public information collection required by the Payments in Lieu of Taxes Act (PILT) and seeks public comments on the provisions thereof. After public review, the Office of Budget will submit a renewal request for the information collection to the Office of Management and Budget (OMB) for review and approval.

DATES: Consideration will be given to all comments received by October 13, 2015.

ADDRESSES: Send your written comments to the U.S. Department of the Interior, Office of the Secretary, Office of Budget, Attn. Dionna Kiernan, 1849 C St. NW., MS 7413 MIB, Washington, DC 20240. Send any faxed comments to (202) 219-2849, attn Dionna Kiernan. Comments may also be emailed to dionna_kiernan@ios.doi.gov.

Individuals providing comments should reference OMB Control Number 1093-0005, “Payments in Lieu of Taxes (PILT Act), Statement of Federal Land Payments, 43 CFR 44.23(a).” Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: To request a copy of the information collection request, any explanatory information and related forms, see the contact information provided in the ADDRESSES section above.

SUPPLEMENTARY INFORMATION:

I. Abstract

This notice is for renewal of information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8(d)).

Public Law 97-258 (31 U.S.C. 6901-6907), as amended, the Payments in Lieu of Taxes (PILT) Act, was designed by Congress to help local governments recover some of the expenses they incur in providing services on public lands. These local governments receive funds under various Federal land payment programs such as the National Forest Revenue Act, the Mineral Lands Leasing Act, and the Taylor Grazing Act. PILT payments supplement the payments that local governments receive under these other programs. The FY 2016 budget proposes a one-year extension of the current PILT program, maintaining the existing formula for calculating payments to counties. That proposal is currently pending before Congress. This renewal authority is being done in anticipation of reauthorization by Congress.

The PILT Act requires that the Governor of each State furnish the Department of the Interior with a listing of payments disbursed to local governments by the States on behalf of the Federal Government under 12 statutes described in Section 6903 of 31 U.S.C. The Department of the Interior uses the amounts reported by the States to reduce PILT payments to units of general local governments from that which they might otherwise receive. If such listings were not furnished by the Governor of each affected State, the Department would not be able to compute the PILT payments to units of general local government within the States in question.

In fiscal year 2004, administrative authority for the PILT program was transferred from the Bureau of Land Management to the Office of the Secretary of the Department of the Interior. Applicable DOI regulations pertaining to the PILT program to be administered by the Office of the Secretary were published as a final rule in the Federal Register on December 7, 2004 (69 FR 70557). The Office of Budget, Office of the Secretary is now planning to extend the information collection approval authority in order to enable the Department of the Interior to continue to comply with the PILT Act.

II. Data

(1) Title: Payments in Lieu of Taxes (PILT Act), Statement of Federal Land Payments, 43 CFR 44.

OMB Control Number: 1093-0005.

Current Expiration Date: December 31, 2015.

Type of Review: Information Collection Renewal.

Affected Entities: State, local, or tribal government.

Estimated annual number of respondents: 45.

Frequency of responses: Annual.

(2) Annual reporting and recordkeeping burden:

Total annual reporting per response: 53 hours.

Total number of estimated responses: 45.

Total annual reporting: 2,385 hours.

(3) Description of the need and use of the information: The statutorily required information is needed to compute payments due units of general local government under the PILT Act (31 U.S.C. 6901-6907). The Act requires that the Governor of each State furnish a statement as to amounts paid to units of general local government under 12 revenue-sharing statutes in the prior fiscal year. The FY 2016 budget proposes a one-year extension of the current PILT program, maintaining the existing formula for calculating payments to counties. That proposal is currently pending before Congress. This renewal authority is being done in anticipation of reauthorization by Congress.

III. Request for Comments

The Departments invite comments on:

(a) Whether the collection of information is necessary for the proper performance of the functions of the agencies, including whether the information will have practical utility;

(b) The accuracy of the agencies' estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment by using the contact information provided in the ADDRESSES section above. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: August 5, 2015.
Olivia B. Ferriter,
Deputy Assistant Secretary, Budget, Finance, Performance, and Acquisition.

[FR Doc. 2015-19753 Filed 8-11-15; 8:45 am]

BILLING CODE 4334-63-P